DEPARTMENT OF JUSTICE

[OMB Number 1121-0NEW]

Agency Information Collection Activities; Proposed eCollection eComments Requested; National Prisoner Statistics Program: Maternal Health Supplement

AGENCY: Bureau of Justice Statistics, Department of Justice.

ACTION: 30-Day notice.

SUMMARY: The Bureau of Justice Statistics, Department of Justice (DOJ), will be submitting the following information collection request to the Office of Management and Budget (OMB) for review and approval in accordance with the Paperwork Reduction Act of 1995. The proposed information collection was previously published in the Federal Register, on November 11, 2023, allowing a 60-day comment period.

DATES: Comments are encouraged and will be accepted for 30 days until March 6, 2024.

FOR FURTHER INFORMATION CONTACT: If you have comments especially on the estimated public burden or associated response time, suggestions, or need a copy of the proposed information collection instrument with instructions or additional information, please contact: Laura Maruschak, Statistician, Bureau of Justice Statistics, 810 Seventh Street NW, Washington, DC 20531 (email: laura.maruschak@usdoj.gov; telephone: 202-598-0802).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering the title of the information collection. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: New collection.

2. Title of the Form/Collection: National Prisoner Statistics program: Maternal Health Supplement (NPS-MatHealth).

3. Agency form number, if any, and the applicable component of the Department of Justice sponsoring the collection: NPS-MatHealth/Bureau of Justice Statistics.

4. Affected public who will be asked or required to respond, as well as a brief abstract:

Affected Public: State and Federal Government.

Abstract: In fiscal year 2021, the United States House Committee on Appropriations directed that BJS include statistics in its data collections that relate to the health needs of incarcerated pregnant women in the criminal justice system, including, but not limited to, the number of pregnant women in custody, outcomes of pregnancies, the provision of pregnancy care and services, health status of pregnant women, and racial and ethnic disparities in maternal health, at the Federal, State, Tribal, and local levels. To address the directive at the State and Federal level, BJS developed the NPS-MatHealth survey, a 1-time supplement to the National Prisoners Statistics program. The survey will request information on maternal health and pregnancy outcomes between January 1, 2023 and December 31, 2023, including provide the annual count of female admissions to prison tested for pregnancy, the number of those tests that were positive, and the number of pregnancy outcomes by outcome type. Additionally, the data collected will capture maternal health services and accommodations among State DOCs and the BOP and provide a 1-day count (December 31, 2023) of pregnant women by race/Hispanic origin, and the number of women residing in a nursery or residential program in which the infant resides with the mother.

5. Obligation to Respond: Voluntary.

6. Total Estimated Number of Respondents: 51.

7. Estimated Time per Respondent: 2.5 hours.

8. Frequency: One-time.

9. Total Estimated Annual Time Burden: 126 hours.

10. Total Estimated Annual Other Costs Burden: $4,851.

If additional information is required, contact: Darwin Arceo, Department Clearance Officer, Policy and Planning Staff, Justice Management Division, United States Department of Justice, Two Constitution Square, 145 N Street NE, 4W-218, Washington, DC 20530.

Dated: January 31, 2024.
John R. Carlson,
Department Clearance Officer for PRA, U.S. Department of Justice.

[FR Doc. 2024-02213 Filed 2-2-24; 8:45 am]

BILLING CODE 4410-18-P